DEPARTMENT OF COMMERCE

Minority Business Development Agency

Proposed Information Collection; Comment Request; Online Performance Database, Online Phoenix Database, and Online Opportunity Database

AGENCY: Minority Business Development Agency (MBDA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 14, 2009.

ADDRESSES: Direct all written comments to Diana Hynek, Departmental Paperwork Clearance Officer, Department of Commerce, Room 7845, 14th and Constitution Avenue, NW., Washington, DC 20230 (or via electronic mail at: dHynek@doc.gov).

FOR FURTHER INFORMATION CONTACT: Requests for additional information or for copies of the information collection instrument and instructions should be directed to Efrain Gonzalez, Chief, MBDA Office of Business Development, (202) 482-1940, or via electronic mail at: egonzalez@mbda.gov.

SUPPLEMENTARY INFORMATION:

I. Abstract

Currently, as part of its service delivery programs, MBDA awards cooperative agreements each year. The recipient of each agreement is competitively selected to operate one of the following business centers: (1) Minority Business Enterprise Center (MBEC); (2) Native American Business Enterprise Center (NABEC); or (3) Minority Business Opportunity Center (MBOC) in the geographical service area designated by MBDA under the cooperative agreement. In accordance with the Government Performance Results Act (GPRA), MBDA requires center operators to report client service activities quarterly (Performance Database); to list minority Business Enterprises (MBEs) doing business in the United States (Phoenix Database); and to match those MBEs with opportunities entered in the system by public and private sector entities (Opportunity Database).

II. Method of Collection

Electronic transfer of data.

III. Data

OMB Control Number: 0640-0002.

Form Number: None.

Type of Review: Regular submission.

Affected Public: Business or other for-profit organizations; not-for-profit institutions; individuals or households; Federal, State, Local or Tribal government.

Estimated Number of Respondents: 10,615.

Estimated Time per Response: 1 to 210 minutes, depending on the function.

Estimated Total Annual Burden Hours: 7,802.

Estimated Total Annual Cost to Public: $0.

IV. Request for Comments

Comments are invited on: (a) Whether the proposed collection of information is necessary for the proper performance of the functions of MBDA, including whether the information has practical utility; (b) the accuracy of MBDA's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 9, 2009.
Gwellnar Banks,
Management Analyst, Office of the Chief Information Officer.

[FR Doc. E9-3072 Filed 2-12-09; 8:45 am]

BILLING CODE 3510-21-P